SECURITIES AND EXCHANGE COMMISSION

[Release No. 34-86111; File No. SR-NYSEAMER-2018-39]

Self-Regulatory Organizations; NYSE American LLC; Notice of Withdrawal of Proposed Rule Change, as Modified by Amendment No. 2, To Allow Flexible Exchange Equity Options To Be Cash Settled Where the Underlying Security Is a Specified Exchange-Traded Fund

June 14, 2019.

On September 20, 2018, NYSE American LLC (“NYSE American” or the “Exchange”) filed with the Securities and Exchange Commission (“Commission”), pursuant to Section 19(b)(1) of the Securities Exchange Act of 1934 (“Act”) ¹ and Rule 19b-4 thereunder,² a proposed rule change to modify the rules related to Flexible Exchange (“FLEX”) Options to allow cash settlement for certain FLEX Equity Options. The proposal, as modified by Amendment No. 2, would allow FLEX Equity Options to be cash settled where the underlying security is one of 25 specified Exchange-Traded Funds (“ETF”).

¹ 15 U.S.C. 78s(b)(1).

² 17 CFR 240.19b-4.

The proposed rule change was published for comment in the Federal Register on October 11, 2018.³ On November 19, 2018, pursuant to Section 19(b)(2) of the Act,⁴ the Commission designated a longer period within which to either approve the proposed rule change, disapprove the proposed rule change, or institute proceedings to determine whether to disapprove the proposed rule change.⁵ The Commission received one comment in response to the Original Notice.⁶

³ See Securities Exchange Act Release No. 84364 (October 4, 2018), 83 FR 51535 (October 11, 2018) (“Original Notice”).

⁴ 15 U.S.C. 78s(b)(2).

⁵ See Securities Exchange Act Release No. 84616 (November 19, 2018), 83 FR 60519 (November 26, 2018). The Commission designated January 9, 2019, as the date by which it should approve, disapprove, or institute proceedings to determine whether to disapprove the proposed rule change.

⁶ See Letter to Brent J. Fields, Secretary, Commission, from Samara Cohen, Head of ETF Global Markets, BlackRock, dated November 27, 2018 (“BlackRock Letter”).

On December 19, 2018, the Commission instituted proceedings under Section 19(b)(2)(B) of the Act ⁷ to determine whether to approve or disapprove the proposed rule change.⁸ On March 11, 2019, the Exchange filed Amendment No. 1 to the proposed rule change. On March 25, 2019, the Exchange withdrew Amendment No. 1 and filed Amendment No. 2 to the proposed rule change, which superseded and replaced the proposed rule change in its entirety.⁹ On April 5, 2019, the Commission designated a longer period for Commission action on the proceedings to determine whether to approve or disapprove the proposed rule change.¹⁰ The Commission published Amendment No. 2 for comment in the Federal Register on April 17, 2019.¹¹ The Commission received no comments in response to this solicitation for comments. On May 31, 2019, the Exchange withdrew the proposed rule change (SR-NYSEAMER-2018-39).

⁷ 15 U.S.C. 78s(b)(2)(B).

⁸ See Securities Exchange Act Release No. 84870 (December 19, 2018), 83 FR 66779 (December 27, 2018) (“Order Instituting Proceedings”). The Commission designated April 9, 2019, as the date by which the Commission shall approve or disapprove the proposed rule change.

⁹ See Notice, infra note 11, at n.10, which describes the changes proposed in Amendment No. 2 from the original proposal.

¹⁰ See Securities Exchange Act Release No. 85531 (April 5, 2019), 84 FR 14703 (April 11, 2019). The Commission extended the date by which the Commission shall approve or disapprove the proposed rule change to June 8, 2019.

¹¹ See Securities Exchange Act Release No. 85628 (April 11, 2019), 84 FR 16102 (April 17, 2019) (“Notice”).

For the Commission, by the Division of Trading and Markets, pursuant to delegated authority.¹²
¹² 17 CFR 200.30-3(a)(12).
Vanessa A. Countryman,
Acting Secretary.

[FR Doc. 2019-13072 Filed 6-19-19; 8:45 am]

BILLING CODE 8011-01-P